DEPARTMENT OF TRANSPORTATION

Federal Motor Carrier Safety Administration

[Docket No. FMCSA-2020-0117]

Agency Information Collection Activities; Approval of Reinstated Renewal for Information Request: Commercial Driver's License (CDL) Skills Testing Delays Annual Survey

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its renewal.

DATES: Please send your comments by January 13, 2021. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Dan Britton, Office of Analysis, Research, and Technology/Research Division, Department of Transportation, Federal Motor Carrier Safety Administration, 6th Floor, West Building, 1200 New Jersey Avenue SE., Washington, DC 20590-0001. Telephone: 202-366-9980; Email Address: dan.britton@dot.gov. Office hours are from 9 a.m. to 5 p.m., Monday through Friday, except Federal Holidays.

SUPPLEMENTARY INFORMATION: Title: Commercial Driver's License (CDL) Skills Testing Delays Annual Survey.

OMB Control Number: 2126-0065.

Type of Request: Reinstatement of a renewal that was discontinued at the Agency's request.

Respondents: State CDL Coordinators (one from each of the 50 States, and one from Washington, DC)

Estimated Number of Respondents: 51

Estimated Time per Response: 2.3 hours (137.5 minutes).

Expiration Date: To be determined.

Frequency of Response: Annually.

Estimated Total Annual Burden: The annual burden is estimated to be no more than 2.3 hours (137.5 minutes) per respondent, which equates to 116.9 hours over the universe of 51 respondents. This estimate contains a maximum of 2 hours to gather information from State information systems, and an estimated maximum of 17.5 minutes to respond to the survey. While States that already track and report similar information may need much less than 2 hours to gather information, discussions with subject matter experts led to an agreement that 2 hours was a reasonable maximum time limit to use to estimate the maximum annual burden expected.

The estimated time for survey completion was calculated using Versta Research's methodology for calculating an estimate of survey length, where each question is given a number of points based on the estimated burden required to respond to the question (for example, simple multiple choice questions are 1 point, whereas short answer questions are 3 points per expected short phrase). The total number of points for all questions is then divided by eight (the number of simple questions a user can respond to online in 1 minute) to determine the estimate required length for finishing the survey.

Background

Section 5506 of the Fixing America's Surface Transportation Act (“FAST Act”). requires FMCSA to produce a study on CDL skills test delays on an annual basis. The requirements of the study are to submit an annual report describing:

“(A) the average wait time from the date an applicant requests to take a skills test to the date the applicant has the opportunity to complete such test;

(B) the average wait time from the date an applicant, upon failure of a skills test, requests a retest to the date the applicant has the opportunity to complete such retest;

(C) the actual number of qualified commercial driver's license examiners available to test applicants; and

(D) the number of testing sites available through the State department of motor vehicles and whether this number has increased or decreased from the previous year.”

The annual report is also required to describe “specific steps the Administrator is taking to address skills testing delays in States that have average skills test or retest wait times of more than 7 days.”

If this information collection does not occur, FMCSA will not be able to continue to conduct the study on CDL skills test delays. This data collection aims to continue to create longitudinal data where currently there is none. If the information collection occurs on a less-than-annual basis, FMCSA will not be able to make observations on yearly trends or analyze differences between States.

For the initial 2017 survey FMCSA met with several stakeholders, including the American Association of Motor Vehicle Administrators, the Commercial Vehicle Training Association, and State Driver Licensing Agencies to ensure the information being collected was not already collected elsewhere and was not available to FMCSA. FMCSA conducted extensive background research to ensure the study was not duplicative. A previous study, done by the Government Accountability Office (GAO) in 2015, asked for similar information but did not produce specific enough data to be used in this study.

The survey will continue to be sent out via email, with the option for online completion using SurveyMonkey® or Qualtrics. Each State can continue to respond via email or the online survey tool depending on which method is more convenient for the respondent. The welcome letter will continue to indicate that FMCSA prefers responses via the online survey tool.

The information collected will continue to be published annually in a report to the Committee on Commerce, Science, and Transportation of the Senate and the Committee on Transportation and Infrastructure of the House of Representatives.

Prior Publication

FMCSA published a notice in the Federal Register (85 FR 35496) with a 60-day public comment period to announce this proposed information collection on June 10, 2020. The agency received four total comments, three unique comments and one duplicated comment, in response to this notice.

The three comments received in response to the 60-day notice were from the following persons and organizations:

1. National School Transportation Association (NSTA)

2. Texas Trucking Association (TXTA)

3. Commercial Vehicle Training Association (CVTA)

The comment from NSTA was posted twice, but was the same comment. NSTA was supportive of the information collection request and felt that it was necessary and important information to collect, not only due to FAST Act requirements but also in light of the ongoing COVID-19 situation, which has impacted SDLAs and their operating statuses, as well as many other aspects of the transportation sector. NSTA made several recommendations regarding issuances of CDLs for school bus drivers and inspections for school bus drivers that are outside the scope of this information collection request. These comments have been passed on to the appropriate parties in FMCSA, but did not result in any changes to the proposed information collection contained in this request.

Similarly, TXTA made several comments regarding the actual licensing procedures and policies within Texas, which are outside the scope of this information collection. These comments have been passed on to the appropriate parties in FMCSA, but did not result in any changes to the proposed information collection contained in this request.

CVTA was supportive of the information collection request itself but made several suggestions for improvement. First, CVTA suggested that FMCSA require States to respond to the survey. Furthermore, CVTA felt that FMCSA's analysis of the collected data was lacking and expressed concern with the definition of delays and wait times used by FMCSA in the original analysis. CVTA noted in their comment that they felt this was a failure of FMCSA to meet the requirements of the FAST Act statute. FMCSA does not have the authority to compel States to respond to the survey and re-asserts that responses to the survey must be voluntary. The prior survey received at least partial responses from the majority of States. FMCSA successfully delivered the 2017 report to Congress, which the Agency understood to fulfill the intent behind Section 5506 of the FAST Act. FMCSA did not make any changes to the proposed information collection as a result of this comment, which largely focused on the reporting out of results from the information collection as opposed to the collection of information itself.

Public Comments Invited: You are asked to comment on any aspect of this information collection, including: (1) whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87.

Tom Keane,
Associate Administrator, Office of Research and Registration.

[FR Doc. 2020-27376 Filed 12-11-20; 8:45 am]

BILLING CODE 4910-EX-P